DEPARTMENT OF TRANSPORTATION

Federal Aviation Administration

[Docket No. FAA-2013-0316]

Aviation Rulemaking Advisory Committee (ARAC) Airman Testing Standards and Training Working Group (ATSTWG)

AGENCY: Federal Aviation Administration (FAA), DOT.

ACTION: Notice of Availability; reopening of comment period.

SUMMARY: This notice announces the reopening of the comment period on the availability of draft Airman Certification Standards (ACS) documents developed by the Airman Testing Standards and Training WG for the private pilot certificate and the instrument rating. These documents are available for public review, download, and comment.

DATES: The comment period for the notice published on April 24, 2013 (78 FR 24289) closed May 24, 2013, and is reopened until July 8, 2013.

ADDRESSES: Send comments identified by docket number FAA-2013-0316 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Van L. Kerns, Manager, Regulatory Support Division, FAA Flight Standards Service, AFS 600, FAA Mike Monroney Aeronautical Center P.O. Box 25082 Oklahoma City, OK 73125; telephone (405) 954-4431, email van.l.kerns@faa.gov.

SUPPLEMENTARY INFORMATION:

Background

On April 24, 2013, the FAA established Docket No. FAA-2013-0316 for the purpose of enabling the public to comment on some draft documents developed by the Airman Testing Standards and Training Working Group. The following documents were placed in that docket for public review and comment:

(1) Background Information; Industry-Led Changes to FAA Airman Testing Standards and Training

(2) Draft PRIVATE PILOT—AIRPLANE Airman Certification Standards;

(3) Draft Change Tracking Matrix referenced to FAA-S-8081-14B, Private Pilot Practical Test Standards for Airplane (Single Engine Land and Single-Engine Sea Areas of Operation); Section 1: Private Pilot

(4) Draft INSTRUMENT RATING—Airman Certification Standards; and

(5) Draft Change Tracking Matrix referenced to FAA-S-8081-4E, Instrument Rating Practical Test Standards for Airplane, Helicopter, and Powered Lift

During the initial 30-day comment period, which closed on May 24, 2013, more than 130 individuals and organizations posted comments on these documents. The ATSTWG received a wide range of comments that provided suggestions on how the ATSTWG could further improve its draft PRIVATE PILOT—AIRPLANE and draft INSTRUMENT RATING Airman Certification Standards documents. Given the size and scope of the documents, which align the aeronautical knowledge testing standards with the flight proficiency standards set out in the existing Practical Test Standards (PTS), several commenters requested additional time to review the material and develop their response.

The ATSTWG's work is intended to improve the relevance, reliability, validity, and effectiveness of the FAA's aeronautical testing and training materials, as well as to support the FAA's goal of reducing fatal general aviation accidents by incorporating task-specific risk management considerations into each Area of Operation. Because the ACS documents are intended to be the foundation for transitioning to a more integrated and systematic approach to airman certification testing and training, the ATSTWG wishes to benefit from the broadest possible range of public comment on the work it will submit to the FAA via the Aviation Rulemaking Advisory Committee in September 2013. The ATSTWG has asked the FAA to extend the public comment period by an additional 30 days, and the FAA has accordingly reopened the docket, as noted in the DATES section above.

The ATSTWG will continue its additional work on remaining assignments, including development of the authorized instructor ACS document. The ATSTWG expects to make the authorized instructor ACS document available for public review and comment at a later date.

Issued in Washington, DC, on June 3, 2013.
Lirio Liu,
Designated Federal Officer, Aviation Rulemaking Advisory Committee.

[FR Doc. 2013-13513 Filed 6-6-13; 8:45 am]

BILLING CODE 4910-13-P